DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date:

November 16, 2011 9 a.m.-2:45 p.m.

November 17, 2011 10 a.m.-12:30 p.m.

Place: Holiday Inn Rosslyn at Key Bridge Hotel, 1900 N Fort Meyer Drive, Arlington, VA 22209, (703) 522-8864.

Status: Open.

Purpose: At this meeting the Committee will hear presentations and hold discussions on several health data policy topics. On the morning of the first day the Committee will hear updates from the Department, the Center for Medicare and Medicaid Services, and the Office of the National Coordinator. There will also be discussion on items for approval: (1) Population/Privacy Community Health Data Report which includes a plan for an informational Primer; (2) recommendation letter on Electronic Fund Transfer and Remittance Advice; and after lunch (3) the NCVHS Tenth Report to Congress on the Implementation of the Administrative Simplification Provisions of the Health Insurance Portability and Accountability Act (HIPAA) of 1996. Additionally, a briefing will be given on the meaningful use of Electronic Health Records for Population Health.

On the morning of the second day there will be a review of the final action items discussed on the first day the Committee will discuss next steps.

The times shown above are for the full Committee meeting. Subcommittee breakout sessions are scheduled for late in the afternoon on the first day and in the morning prior to the full Committee meeting on the second day. Agendas for these breakout sessions will be posted on the NCVHS Web site (URL below) when available.

Contact Person for more Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: October 20, 2011.
James Scanlon,
Deputy Assistant Secretary for Science Planning and Evaluation, Office of the Assistant Secretary for Planning and Evaluation.

[FR Doc. 2011-27798 Filed 10-26-11; 8:45 am]

BILLING CODE 4151-05-P